DEPARTMENT OF COMMERCE

National Oceanic and Atmospheric Administration

50 CFR Part 665

RIN 0648-XD907

Pacific Island Fisheries; Hawaii Bottomfish and Seamount Groundfish; Revised Essential Fish Habitat and Habitat Areas of Particular Concern

AGENCY: National Marine Fisheries Service (NMFS), National Oceanic and Atmospheric Administration (NOAA), Commerce.

ACTION: Notice of availability of fishery ecosystem plan amendment; request for comments.

SUMMARY: NMFS announces that the Western Pacific Fishery Management Council (Council) proposes to amend the Fishery Ecosystem Plan for Fisheries of the Hawaiian Archipelago. If approved, Amendment 4 would revise the descriptions of essential fish habitat (EFH) and habitat areas of particular concern (HAPC) for 14 species of bottomfish and three species of seamount groundfish in the Hawaiian Archipelago. The proposed action considers the best available scientific, commercial, and other information about the fisheries, and supports the long-term sustainability of fishery resources.

DATES: NMFS must receive comments on the proposed amendment by April 12, 2016.

ADDRESSES: You may submit comments on this document, identified by NOAA-NMFS-2015-0056, by either of the following methods:

• Electronic Submission: Submit all electronic public comments via the Federal e-Rulemaking Portal. Go to http://www.regulations.gov/#!docketDetail;D=NOAA-NMFS-2015-0056, click the “Comment Now!” icon, complete the required fields, and enter or attach your comments.

• Mail: Send written comments to Michael D. Tosatto, Regional Administrator, NMFS Pacific Islands Region (PIR), 1845 Wasp Blvd. Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

The Council prepared Amendment 4 that provides background information on the proposed action. The amendment is available from www.regulations.gov or the Council, 1164 Bishop St., Suite 1400, Honolulu, HI 96813, tel 808-522-8220, fax 808-522-8226, www.wpcouncil.org.

FOR FURTHER INFORMATION CONTACT: Matt Dunlap, Sustainable Fisheries Division, NMFS PIR, 808-725-5177.

SUPPLEMENTARY INFORMATION: NMFS and the Council manage Hawaii fisheries under the Fishery Ecosystem Plan for Fisheries of the Hawaiian Archipelago. Typically, the Council recommends conservation and management measures for NMFS to implement under the authority of Magnuson-Stevens Fishery Conservation and Management Act (Magnuson-Stevens Act (16 U.S.C. 1801 et seq.). The Magnuson-Stevens Act contains EFH provisions to identify and protect important habitats of federally-managed fish. EFH are those waters and substrates necessary for fish to spawn, breed, feed, and grow to maturity. HAPC are a subset of EFH, and HAPC criteria include the importance of the habitat's ecological function, the extent to which the habitat is sensitive to human-induced environmental degradation, what development activities are or will be stressing the habitat, and the rarity of the habitat type. Federal agencies that fund, permit, or undertake activities that may adversely affect EFH are required to consult with NMFS regarding the potential effects of their actions on EFH, and to respond to NMFS recommendations.

The Council and NMFS have improved their understanding of the life histories and specific habitat requirements of Hawaii bottomfish and seamount groundfish. After considering the new information, the Council recommended revising the EFH and HAPC designations in the FEP.

NMFS must receive comments on the proposed amendment by April 12, 2016 for consideration in the decision to approve, partially approve, or disapprove the amendment.

Current EFH and HAPC for Hawaii Bottomfish

The current designation for overall EFH for Hawaii bottomfish is the “water column extending from the shoreline to the outer boundary of the 200-mile EEZ [Exclusive Economic Zone] to a depth of 400 m.” The current designation for HAPC is “all escarpments and slopes between 40-280 m and three known areas of juvenile P. [Pristipimoides] filamentosus habitat” (Table 1).

Current EFH and HAPC for Hawaii Seamount Groundfish

The overall EFH for Hawaii seamount groundfish is currently defined as the “water column and bottom habitat from 0-600 m in the EEZ, bounded by latitude 29°-35° N., and longitude 171° E.,-179° W.” The seamount groundfish EFH encompasses the Hancock Seamounts, part of the northern extent of the Hawaiian Ridge, located 1,500 miles northwest of Honolulu. Currently, there are no HAPC designations for Hawaii seamount groundfish (Table 1).

Table 1—Current EFH and HAPC for Bottomfish and Seamount Groundfish
Species assemblage | EFH (eggs) | EFH (larvae) | EFH (juveniles) | EFH (adults) | HAPC (all life stages)
Bottomfish Shallow Complex Bottomfish Deep Complex | Water column extending from the shoreline to the outer boundary of the EEZ to a depth of 400 m. |  | Water column and bottom habitat extending from shoreline to a depth of 400 m. |  | All escarpments and slopes between 40-280 m and three known areas of juvenile P. filamentosus habitat.
Seamount Groundfish | Epipelagic zone (0 to 200 m depth) of all waters bounded by 29°-35° N., and 171° E.-179° W. |  |  | Water column and bottom habitat from 80 m to 600 m, bounded by 29°-35° N. and 171° E.-179° W | Not identified.

Proposed Changes to EFH and HAPC of Bottomfish and Seamount Groundfish of the Hawaiian Archipelago

Bottomfish

Under the changes proposed in Amendment 4, the overall EFH designation for Hawaii bottomfish would remain the same, i.e., waters 0-400 m deep within the EEZ. The Council's recommendations are a refinement with respect to which life stages and species assemblages are associated with a particular EFH designation. The amendment proposes to revise descriptions of habitat importance for individual species, which reflects updated information about depth range and life history for each life stage of each bottomfish. The amendment proposes to designate EFH for three bottomfish complexes (shallow, intermediate, and deep) instead of the current two (shallow and deep). The amendment proposes replacing the previous life stage terms of larvae, juvenile, and adults with the terms post-hatch pelagic, post-settlement, and sub-adult/adult, respectively. The amendment uses the term “pelagic” to refer to the water column that excludes bottom habitat, “benthopelagic” for the water column and benthic habitat, and “benthic” for the bottom habitat and the immediately adjacent waters in which a bottom-dwelling fish might live. Revised HAPC designations are for seven distinct sites in the main Hawaiian Islands (Table 2).

Seamount Groundfish

Under the changes proposed in Amendment 4, EFH for Hawaii seamount groundfish would be an area that overlaps the Hancock Seamounts Ecosystem Management area, or the waters within the EEZ north of 28° N. and west of 180° W. The proposed revisions to EFH for seamount groundfish involve distinctions over depth ranges at various life stages. The Council is proposing to designate the same area described for EFH above as HAPC for seamount groundfish (Table 2). Previously there were no HAPC designated for seamount groundfish in the Hawaiian archipelago.

Table 2—Proposed EFH and HAPC for Bottomfish and Seamount Groundfish
Species assemblage | EFH (eggs) | EFH (post-hatch pelagic) | EFH (post-settlement) | EFH (sub-adult/adult) | HAPC (all life stages)
Bottomfish Shallow | Water column from 0-240 m depth extending |  | Water column from 0-240 m depth extending |  | Kaena Point, Oahu
Complex. | from the shoreline to the outer boundary of |  | from the shoreline to the outer boundary of |  | Kaneohe Bay,
| the EEZ. |  | the EEZ. |  | Oahu Makapuu,
Bottomfish Inter- | Water column from 0-320 m depth extending |  | Water column from 40-320 m depth from the |  | Oahu Penguin
mediate Complex. | from the shoreline to the outer boundary of |  | shoreline to the outer boundary of the EEZ. |  | Bank, Oahu Pailolo
| the EEZ. |  |  |  | Channel, Maui
Bottomfish Deep Com- | Water column from 0-400 m depth extending |  | Water column from 80-400 m depth from the |  | North Kahoolawe,
plex. | from the shoreline to the outer boundary of |  | shoreline to the outer boundary of the EEZ. |  | Kahoolawe Hilo,
| the EEZ. |  |  |  | Hawaii (see Amendment text and Appendices 4 and 5 for specific site locations).
Seamount Groundfish | Pelagic waters 0-600 m depth within the EEZ north of 29° N., and west of 179° W. |  | Benthic or benthopelagic waters from 120-600 m depth within the EEZ north of 29° N., and west of 179° W | Benthopelagic waters from 120-600 m depth within the EEZ north of 29° N. and west of 179° W | All waters from 0-600 m depth within the EEZ north of 29° N., and west of 179° W.

Authority: 16 U.S.C. 1801 et seq.

Dated: February 8, 2016.
Samuel D. Rauch III,
Deputy Assistant Administrator for Regulatory Programs, National Marine Fisheries Service.

[FR Doc. 2016-02843 Filed 2-11-16; 8:45 am]

BILLING CODE 3510-22-P